DEPARTMENT OF COMMERCE

National Oceanic and Atmospheric Administration

RIN 0648-XG390

North Pacific Fishery Management Council; Public Meeting

AGENCY: National Marine Fisheries Service (NMFS), National Oceanic and Atmospheric Administration (NOAA), Commerce.

ACTION: Notice of telephonic meeting.

SUMMARY: The North Pacific Fishery Management Council (Council) Ecosystem Committee will hold a teleconference on August 20, 2018.

DATES: The meeting will be held on Monday, August 20, 2018, from 11 a.m. to 1 p.m., Alaska Standard Time.

ADDRESSES: The meeting will be held telephonically. Teleconference line: (907) 271-2896.

Council address: North Pacific Fishery Management Council, 605 W. 4th Ave. Suite 306, Anchorage, AK 99501-2252; telephone: (907) 271-2809.

FOR FURTHER INFORMATION CONTACT: Steve MacLean, Council staff; telephone: (907) 271-2809.

SUPPLEMENTARY INFORMATION:

Agenda

Monday, August 20, 2018

The meeting agenda includes: Review and discussion of a public involvement section for the Bering Sea Fishery Ecosystem Plan, as well as provide comments on the NOAA's EBFM Roadmap.

The Agenda is subject to change, and the latest version will be posted at: https://www.npfmc.org/committees/ecosystem-committee.

Public Comment

Public comment letters will be accepted and should be submitted either electronically to Steve MacLean, Council staff: steve.maclean@noaa.gov or through the mail: North Pacific Fishery Management Council, 605 W. 4th Ave. Suite 306, Anchorage, AK 99501-2252. Oral public testimony will be accepted at the discretion of the co-chairs.

Special Accommodations

The meeting is physically accessible to people with disabilities. Requests for sign language interpretation or other auxiliary aids should be directed to Shannon Gleason at (907) 271-2809 at least 7 working days prior to the meeting date.

Dated: July 31, 2018.
Tracey L. Thompson,
Acting Deputy Director, Office of Sustainable Fisheries, National Marine Fisheries Service.

[FR Doc. 2018-16660 Filed 8-2-18; 8:45 am]

BILLING CODE 3510-22-P